FEDERAL MARITIME COMMISSION

Ocean Transportation Intermediary License Revocations

The Commission gives notice that the following Ocean Transportation Intermediary licenses have been revoked pursuant to section 19 of the Shipping Act of 1984 (46 U.S.C. 40101) effective on the date shown.

License No.: 3135N.

Name: N & N Safeway Shipping Company.

Address: 871 E. Artesia Blvd., Carson, CA 90746.

Date Revoked: November 7, 2012.

Reason: Failed to maintain a valid bond.

License No.: 4243F.

Name: Bauhinia International Corp.

Address: 124-12 111th Avenue, South Ozone Park, NY 11420.

Date Revoked: October 31, 2012.

Reason: Failed to maintain a valid bond.

License No.: 018498N.

Name: Utopia Worldwide, Inc.

Address: 99 W. Hawthorne Avenue, Suite L-10, Valley Stream, NY 11580.

Date Revoked: October 31, 2012.

Reason: Failed to maintain a valid bond.

License No.: 021628N.

Name: A & S Shipping Company, Inc.

Address: 2759 NW 82nd Avenue, Miami, FL 33122.

Date Revoked: October 25, 2012.

Reason: Failed to maintain a valid bond.

License No.: 022844F.

Name: World Freight Solutions Inc.

Address: 691 Dekle Street, Mobile, AL 36602.

Date Revoked: October 21, 2012.

Reason: Failed to maintain a valid bond.

License No.: 023505NF.

Name: Savannah Logistical Services, LLC dba Savannah Logistical Services dba SLS.

Address: 145 Distribution Drive, Pooler, GA 31322.

Date Revoked: October 27, 2012.

Reason: Failed to maintain valid bonds.

License No.: 004027F.

Name: U.S. Airfreight, Inc.

Address: 2624 NW 112th Avenue, Doral, FL 33172.

Date Revoked: October 28, 2012.

Reason: Failed to maintain a valid bond.

License No.: 022988F.

Name: World Class Solutions LLC.

Address: 3901 NW 79th Avenue, Suite 230, Doral, FL 33166.

Date Revoked: November 8, 2012.

Reason: Failed to maintain a valid bond.

Vern W. Hill,
Director, Bureau of Certification and Licensing.

[FR Doc. 2012-29446 Filed 12-5-12; 8:45 am]

BILLING CODE 6730-01-P